DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2008 Census Dress Rehearsal.

Form Number(s): DX-1, DX-1(UL), DX-1(E/S), DX-1(C), DX-10, DX-10(S), DX-10(C), DX-15, DX-20, DX-20(S), DX-21.

Agency Approval Number: 0607-0919.

Type of Request: Reinstatement, with change, of an expired collection.

Burden Hours: 101,501.

Number of Respondents: 624,502.

Average Hours Per Response: 10 minutes.

Needs and Uses: The U.S. Census Bureau requests authorization from the Office of Management and Budget (OMB) to collect data from the public as part of the 2008 Census Dress Rehearsal.

The 2008 Census Dress Rehearsal is the final opportunity for the Census Bureau to preview the operational design of the 2010 Census.

Census 2000 was an operational and data quality success. However, that success was achieved at great operational risk and great expense. In response to the lessons learned from Census 2000, and in striving to better meet our Nation's ever-expanding needs for social, demographic, and geographic information, the U.S. Department of Commerce and the Census Bureau have developed a multi-year effort to completely modernize and re-engineer the 2010 Census of Population and Housing. This effort required an iterative series of tests in 2003, 2004, 2005 and in 2006, that provided an opportunity to evaluate new or improved question wording and questionnaire design, methodologies, and use of technology.

The 2003 Census Test was conducted, and designed to evaluate alternative self-response options and alternative presentation of the race and Hispanic origin question; the 2004 Census Test, which studied new methods to improve coverage, including procedures for reducing duplication, and tested respondent reaction to revised race and Hispanic origin questions, examples, and instructions; the 2005 National Census Test, designed to evaluate variations of questionnaire content and methodology; and the 2006 Census Test, which relied on the results of the 2004 Census Test to expand on the number of new and refined methods. The 2008 Census Dress Rehearsal is the final step in the decennial cycle of research and development leading up to the implementation of the 2010 Census.

The 2008 Census Dress Rehearsal will integrate the various operations and procedures planned for the 2010 Census under as close to census-like conditions as possible. The results of this undertaking will be applied to the final plans for the 2010 Census operations where feasible.

The 2008 Census Dress Rehearsal will be conducted in two sites, one urban, and the other one, a mix of urban and suburban. San Joaquin County, California is the urban site. South Central North Carolina has been selected as the urban/suburban mix test site. This area consists of Fayetteville and nine counties surrounding Fayetteville (Chatham, Cumberland, Harnett, Hoke, Lee, Montgomery, Moore, Richmond and Scotland). The combination of a large urban site and a small city-suburban-rural site provides a comprehensive environment for demonstrating the planned 2010 Census methodology. These two sites, comprising of approximately 480,000 housing units, reflect characteristics that provide a good operational proof of concept of the planned 2010 Census operations, procedures, methods, and systems. Each site will have a Regional Office, which will guide and support the work of the temporary Local Census Offices in their jurisdiction.

Affected Public: Individuals or households.

Frequency: One time.

Respondent's Obligation: Mandatory.

Legal Authority: Title 13 U.S.C., Sections 141 and 193.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail bharrisk@omb.eop.gov).

Dated: June 21, 2007.
Gwellnar Banks,
Management Analyst, Office of the Chief Information Officer.

[FR Doc. E7-12382 Filed 6-26-07; 8:45 am]

BILLING CODE 3510-07-P